DEPARTMENT OF TRANSPORTATION

Federal Highway Administration

Notice of Final Federal Agency Actions on a Proposed Highway Project in California

AGENCY: Federal Highway Administration (FHWA), U.S. DOT.

ACTION: Notice of Limitation on Claims for Judicial Review of Actions by FHWA and other Federal agencies.

SUMMARY: This notice announces actions taken by the FHWA and other Federal agencies that are final within the meaning of 23 U.S.C. 139(1)(1). This action relates to an approval of a proposed highway project corridor.

DATES: By this notice, the FHWA is advising the public of final agency actions subject to 23 U.S.C. 139(1)(1). A claim seeking judicial review of the Federal agency actions on the highway Project will be barred unless the claim is filed on or before November 22, 2010. If the Federal law that authorizes judicial review of a claim provides a time period of less than 180 days for filing such claim, then that shorter time period still applies.

FOR FURTHER INFORMATION CONTACT: Gary Sweeten, North Team Leader, Local Agency Programs, Federal Highway Administration, 650 Capitol Mall, #4-100, Sacramento, CA 95814, weekdays between 7 a.m. and 4 p.m., telephone (916) 498-5128, gary.sweeten@dot.gov, or John Webb, Chief, Office of Environmental Services, California Department of Transportation (Caltrans), 703 B Street, Marysville, CA 95901, (530) 741-4393, john_webb@dot.ca.gov, or Celia McAdam, Executive Director, Placer County Transportation Planning Agency (PCTPA), 299 Nevada Street, Auburn, CA 95603, (530) 823-4030, cmcadam@pctpa.net.

SUPPLEMENTARY INFORMATION: Notice is hereby given that the FHWA and other Federal agencies have taken final agency actions by issuing approvals for the Placer Parkway Corridor Preservation Project—Tier 1 in the State of California. The FHWA has selected the Alternative 5 Corridor with a no access buffer zone for the future Placer Parkway project in south Sutter County and southwestern Placer County, California. The selection of a corridor will allow for the protection of the corridor and the facilitation of land use and circulation planning by local agencies. FHWA based its decision on the Final Tier I Environmental Impact Statement/Program Environmental Impact Report (EIS/EIR) and Final Tier 1 Section 4(f) Evaluation (November 2009) and its supporting studies. With the adoption of this Record of Decision (ROD) by FHWA, Caltrans and Local Transportation Agencies will use the Tier 1 EIS/EIR and its supporting studies to proceed with the identification and environmental analysis of project level design and operational alternatives, with the knowledge that the overall project location has been approved.

Actions by the Federal agencies and the laws under which such actions were taken are described in the Final Tier 1 EIS/EIR for the project. The ROD was approved on May 7, 2010. The Final Tier 1 EIS/EIR and other documents in the FHWA administrative record file are available by contacting the FHWA, Caltrans, or the PCTPA at the addresses provided above. This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act, as amended [42 U.S.C. 7401-7671(q)].

3. Land: Section 4(f) of the Department of Transportation Act of 1966 [49 U.S.C 303].

4. Wildlife and Plants: Endangered Species Act [16 U.S.C. 1531-1544 and Section 1536], Migratory Bird Treaty Act [16 U.S.C. 703-712].

5. Historic and Cultural Resources: Section 106 of the National Historic Preservation Act of 1966, as amended [16 U.S.C. 470(aa)-11]; Archeological Resources Protection Act of 1977 [16 U.S.C. 470(aa)-11]; Archeological and Historic Preservation Act [16 U.S.C. 469-469(c)].

6. Social and Economic: Civil Rights Act of 1964 [42 U.S.C. 2000(d)-2000(d)(1)]; Farmland Protection Policy Act (FPPA) [7 U.S.C. 4201-4209]; the Uniform Relocation Assistance and Real Property Acquisition Policies of 1970, as amended [42 U.S.C. 61].

7. Wetlands and Water Resources: Clean Water Act [33 U.S.C. 1251-1377 (Section 404, Section 401, Section 319)]; TEA-21 Wetland Mitigation [23 U.S.C. 103(b)(6)(m).

8. Hazardous Materials: Comprehensive Environmental Response, Compensation, and Liability Act [42 U.S.C. 9601-9675]; Superfund Amendments and Reauthorization Act of 1986 [Pub. L. 99-499]; Resource Conservation and Recovery Act (RCRA) [42 U.S.C. 6901-6992(k)].

9. Executive Orders: E.O. 11990 Protection of Wetlands; E.O. 11988 Floodplain Management; E.O. 12898 Federal Actions to Address Environmental Justice in Minority Populations and Low Income Populations; E.O. 11593 Protection and Enhancement of Cultural Resources; E.O. 13007 Indian Sacred Sites; E.O. 13112 Invasive Species; E.O. 13274, Environmental Stewardship and Transportation Infrastructure Project Reviews.

(Catalog of Federal Domestic Assistance Program Number 20.205, Highway Planning and Construction. The regulations implementing Executive Order 12372 regarding intergovernmental consultation on Federal programs and activities apply to this program.)

Authority: 23 U.S.C. 139(1)(1).

Issued on: May 20, 2010.
Maiser Khaled,
Director, National Programs, Federal Highway Administration, Sacramento, California.

[FR Doc. 2010-12634 Filed 5-25-10; 8:45 am]

BILLING CODE 4910-RY-P